SMALL BUSINESS ADMINISTRATION

[Disaster Declaration #14813 and #14814]

Louisiana Disaster Number LA-00066

AGENCY: U.S. Small Business Administration.

ACTION: Amendment 3.

SUMMARY: This is an amendment of the Presidential declaration of a major disaster for Public Assistance Only for the State of Louisiana (FEMA-4277-DR), dated 08/16/2016.

Incident: Severe Storms and Flooding.

Incident Period: 08/11/2016 through 08/31/2016.

Effective Date: 09/02/2016.

Physical Loan Application Deadline Date: 10/17/2016.

Economic Injury (EIDL) Loan Application Deadline Date: 05/16/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Louisiana, dated 08/16/2016, is hereby amended to establish the incident period for this disaster as beginning 08/11/2016 and continuing through 08/31/2016.

All other information in the original declaration remains unchanged.

(Catalog of Federal Domestic Assistance Number 59008)

James E. Rivera,
Associate Administrator for Disaster Assistance.

[FR Doc. 2016-22115 Filed 9-14-16; 8:45 am]

BILLING CODE 8025-01-P